DEPARTMENT OF TRANSPORTATION

Federal Aviation Administration

Cancellation of Preparation of Environmental Impact Statement for Sacramento International Airport, Sacramento, Sacramento County, CA

AGENCY: Federal Aviation Administration, DOT.

ACTION: Notice of cancellation of preparation of Environmental Impact Statement.

SUMMARY: The Federal Aviation Administration (FAA) announces that it has discontinued preparation of an Environmental Impact Statement (EIS) for a proposed runway extension project and other associated development at Sacramento International Airport, Sacramento, California. The FAA is doing this because Sacramento County, the owner and operator of the airport, is deferring its proposed runway extension project to a long-term planning horizon (2020). As a result, FAA has determined the runway extension proposal at Sacramento International airport is not ripe for decision at this time.

FOR FURTHER INFORMATION CONTACT: Camille Garibaldi, Environmental Protection Specialist, Federal Aviation Administration, San Francisco Airports District Office, 831 Mitten Road, Burlingame, California 94010; telephone: 650/876-2778 extension 613.

SUPPLEMENTARY INFORMATION: On August 9, 2005, the Federal Aviation Administration (FAA) issued a Notice of Intent in the Federal Register (70 FR 46260-46261) to prepare an EIS for future development at Sacramento International Airport, Sacramento, California. The FAA based its decision to prepare the EIS on the procedures described in FAA Order 1050.1E, Environmental Impacts: Policies and Procedures. FAA also based its decision to prepare a federal EIS primarily on Sacramento County's proposal to extend Runway 16L/34R to a total length of 11,000 feet. Sacramento County, owner and operator of Sacramento International Airport, notified the FAA, by letter dated September 5, 2006, of the County's decision to withdraw its request for FAA consideration of the proposed extension to Runway 16L/34R at this time. The County will provide FAA with a revised list of proposed improvements to Sacramento International Airport. When FAA receives the County's revised list of proposed improvements and a suggested implementation schedule, FAA will:

• Evaluate each of the proposed improvements:

• Decide if Sacramento County has completed sufficient planning to enable FAA to meaningfully evaluate the potential environmental effects of those improvements;

• Determine the NEPA document necessary to assess the environmental effects of those improvements pursuant to FAA Order 5050.4B, National Environmental Policy Act (NEPA) Implementing Instructions for Airport Actions; and

• Suggest a schedule for completing the necessary NEPA process.

Issued in Hawthorne, California on December 1, 2006.
Mark A. McClardy,
Manager, Airports Division, Western-Pacific Region, AWP-600.

[FR Doc. 06-9627 Filed 12-11-06; 8:45 am]

BILLING CODE 4910-13-M